FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than March 27, 2023.

A. Federal Reserve Bank of Kansas City (Jeffrey Imgarten, Assistant Vice President) 1 Memorial Drive, Kansas City, Missouri 64198-0001:

Mary Elizabeth Thompson O'Connor, Sarasota, Florida; Kathleen Anne Thompson Brown, and Anne Therese Thompson Eckels, both of Kansas City, Missouri; Byron Gregory Thompson, Jr., Ann Arbor, Michigan; Mark Collins Thompson, Mission Hills, Kansas; Paul Joseph Thompson and Michael Scott Thompson, both of Leawood, Kansas; Timothy John Thompson, Phoenix, Maryland; Brian Christopher Thompson, Prairie Village, Kansas; as the Child Majority and the BGT Descendants' Committees, to become members of the Thompson Control Group, a group acting in concert to retain voting shares of CCB Financial Corporation and thereby indirectly retain voting shares of the Country Club Bank, both of Kansas City, Missouri.

Additionally, the following trusts to become members of the Thompson Control Group, to retain voting shares of CCB Financial Corporation and thereby indirectly retain voting shares of the Country Club Bank. The B&J Thompson Trusts: fbo Mary Elizabeth Thompson O'Connor; fbo Kathleen Anne Thompson Brown; fbo Byron Gregory Thompson; fbo Mark Collins Thompson; fbo Paul Joseph Thompson; fbo Timothy John Thompson; fbo Brian Christopher Thompson; fbo Ann Therese Thompson Eckels; fbo Michael Scott Thompson, all U/I/T dated 12/31/92, as amended, and all of Kansas City, Missouri; the Country Club Bank, and the BGT Descendants' Committee, as co-trustees.

Finally, the following trusts to become members of the Thompson Control Group, to acquire voting shares of CCB Financial Corporation and thereby indirectly acquire voting shares of the Country Club Bank. The Brian Christopher Thompson Descendants' Trusts: fbo Brian Christopher Thompson, Jr.; fbo Jane O'Neil Thompson; fbo Madison Paige Thompson; fbo John Harrison Thompson; fbo Mason Henry Thompson, all u/a dated 2023, all of Kansas City Missouri; the Country Club Bank and the BGT Descendants' Committee, as co-trustees; and

Brian Christopher Thompson, Leawood, Kansas; Jane O'Neil Thompson Austin, Texas; Madison Paige Thompson, John Harrison Thompson, and Mason Henry Thompson, all of Prairie Village, Kansas; Byron Gregory Thompson III, San Diego, California; Kelsey Anne Thompson Chun, East Grand Rapids, Michigan; Theresa Marie Thompson, Brooklyn, New York; Molly Jeanne Thompson Argersinger, Peter Joseph Thompson, Charles Paul Thompson, and Grace Elisabeth Thompson, all of Ann Arbor, Michigan; Amy Jeanne O'Connor Loup, Roeland Park, Kansas; Adelaide Thompson O'Toole, Fairway, Kansas; Mark Collins Thompson Jr., Overland Park, Kansas; William Wiedeman Thompson, New York, New York; Margaret Anne Thompson, August Gregory Thompson, Mary Jeanne Thompson, all of Mission Hills, Kansas; Timothy John Thompson, Jr., Norfolk, Virginia; Andrew Joseph Thompson, Silver Spring, Maryland; Tara Kathleen O'Connor Andris, Kensington, Maryland; Elizabeth Noel Thompson, Phoenix, Maryland; Catherine Hope Thompson, Chicago, Illinois; John Byron Eckels, Little Rock, Arkansas; Madeleine M. O'Connor Rau, John Joseph O'Connor IV, Thomas Pritchard Eckels, Jeanne Marie Eckels, William Thompson Eckels, and Molly Ann Eckels, all of Kansas City, Missouri; Michael Scott Thompson, Jr., Daniel James Thompson, Margaret Alyce Thompson, and Ryan Patrick Thompson, all of Leawood, Kansas.

Board of Governors of the Federal Reserve System.
Michele Taylor Fennell,
Deputy Associate Secretary of the Board.

[FR Doc. 2023-04976 Filed 3-9-23; 8:45 am]

BILLING CODE P